DEPARTMENT OF COMMERCE

National Oceanic and Atmospheric Administration

[RIN 0648-XA491]

Fisheries of the Caribbean, Gulf of Mexico, and South Atlantic; Coral and Coral Reefs off the Southern Atlantic States; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Dr. Louis Daniel, on behalf of the North Carolina Division of Marine Fisheries. If granted, the EFP would authorize a maximum of 12 commercial fishing vessels to harvest and land South Atlantic snapper-grouper species that are either currently prohibited to be harvested in general by the South Atlantic Snapper-Grouper Fishery Management Plan (FMP) (speckled hind and warsaw grouper) or are prohibited to be harvested beyond a depth of 240 ft (73.2 m) (blueline tilefish, misty grouper, queen snapper, silk snapper, snowy grouper, and yellowedge grouper). Authorized vessels would be eligible to harvest these species in the exclusive economic zone (EEZ) off North Carolina, specifically, the waters north of Cape Hatteras to the North Carolina/Virginia border. The purpose of this EFP would be to provide basic life history information for any fish harvested, particularly blueline tilefish. An additional purpose of the EFP would be to determine the distribution of speckled hind and warsaw grouper in the study area to determine if these species are bycatch in the commercial blueline tilefish component of the South Atlantic snapper-grouper fishery.

DATES: Comments must be received no later than 5 p.m., Eastern Time, on August 1, 2011.

ADDRESSES: You may submit comments on the application by either of the following methods:

• E-mail: rick.devictor@noaa.gov. Include in the subject line of the e-mail comment the following document identifier: LouisDaniel_EFP 2011.

• Mail: Rick DeVictor, Southeast Regional Office, NMFS, 263 13th Avenue South, St. Petersburg, FL 33701.

The application and related documents are available for review upon written request to any of the above addresses.

FOR FURTHER INFORMATION CONTACT: Rick DeVictor, 727-824-5305; e-mail: rick.devictor@noaa.gov.

SUPPLEMENTARY INFORMATION: The EFP is requested under the authority of the Magnuson-Stevens Fishery Conservation and Management Act (16 U.S.C 1801 et seq.), and regulations at 50 CFR 600.745(b) concerning exempted fishing.

The proposed data collection involves activities otherwise prohibited by regulations at 50 CFR part 622, as they pertain to species managed by the South Atlantic Fishery Management Council (Council) specific to the commercial blueline tilefish component of the snapper-grouper fishery in the South Atlantic. This EFP would exempt designated project participants from regulations regarding the harvest and possession prohibition for speckled hind and warsaw grouper (§ 622.32(b)(3)(vii)), the area closure for deep-water snapper-grouper species (§ 622.35(o)), queen and silk snapper commercial size limits (§ 622.37(e)(1)(iii)), and the snowy grouper commercial trip limit (§ 622.44(c)(3)).

The data collection is authorized in Federal waters, off of North Carolina from a depth of 40 fathoms seaward to the EEZ limit between Cape Hatteras (35°15.03′ N. latitude) north to the North Carolina/Virginia state line (36°33.02′ N. latitude). The EFP would expire when one of the following criteria is met: 100 total trips are taken by the combined participants; 350,000 lb (158,757 kg) of blueline tilefish are landed; 50 fish total of speckled hind or warsaw grouper are landed in any combination; 30 of any one of the following deep-water snapper-grouper species are landed (misty grouper, queen snapper, silk snapper, and yellowedge grouper); 1 year from the start date of the EFP; or for other reasons determined to be appropriate by NMFS.

A maximum of 12 commercial fishing vessels would be allowed to participate. To be eligible, a vessel's 2009 commercial landings must have exceeded 500 lb (226.8 kg) of blueline tilefish in the EEZ waters off North Carolina, north of Cape Hatteras, as verified by the North Carolina trip ticket program. Vessels authorized by this EFP would have an observer onboard for 20 percent of all trips taken under the authority of the EFP. Observers would be selected by the North Carolina Division of Marine Fisheries. A NMFS port agent would collect life history information and otoliths from blueline tilefish, snowy grouper, speckled hind, and warsaw grouper to the extent possible. Sampled fish would be returned to the fisherman in a condition appropriate for sale. Under the EFP, speckled hind and warsaw grouper would not be eligible for sale, however, other deep-water snapper-grouper species would be eligible for sale, with the following condition: Snowy grouper would be eligible for sale up to 100 lb (45 kg) per trip, with a maximum of 10,000 lb (4,536 kg) for all the vessels for the duration of the EFP. The otoliths would be transported to the North Carolina Division of Marine Fisheries for storage and potential further analysis. All landings of blueline tilefish and snowy grouper would be deducted from the commercial annual catch limits for these species as established by the Council.

The purpose of this EFP would be to provide basic life history information of the fish harvested, particularly blueline tilefish. Another purpose of the EFP would be to determine the presence or absence of speckled hind and warsaw grouper north of Cape Hatteras, North Carolina, to determine if these species are bycatch by commercial blueline tilefish harvesters.

NMFS finds this application warrants further consideration. Based on a preliminary review, NMFS intends to issue the requested EFP, pending receipt of public comments, as per § 600.745(b)(3)(i). Possible conditions the agency may impose on this permit, if it is indeed granted, include but are not limited to, a prohibition on conducting research within marine protected areas, marine sanctuaries, special management zones, or artificial reefs without additional authorization. A report on the project findings is due at the end of the collection period, to be submitted to NMFS and reviewed by the Council.

A final decision on issuance of the EFP will depend on NMFS's review of public comments received on the application, consultations with the affected state, the Council, and the U.S. Coast Guard, as well as a determination that the EFP is consistent with all applicable laws.

Authority: 16 U.S.C 1801 et seq.

Dated: July 12, 2011.
Margo Schulze-Haugen,
Acting Director, Office of Sustainable Fisheries, National Marine Fisheries Service.

[FR Doc. 2011-17897 Filed 7-14-11; 8:45 am]

BILLING CODE 3510-22-P